DEPARTMENT OF ENERGY

Federal Energy Regulatory Commission

[Docket No. RP03-525-000]

Western Gas Interstate Company; Notice of Compliance Filing

June 18, 2003.

Take notice that on June 12, 2003, Western Gas Interstate Company (WGI), tendered for filing as part of its FERC Gas Tariff, Fourth Revised Volume No. 1, the following tariff sheets, with an effective date of July 1, 2003:

Second Revised Sheet No. 136

Third Revised Sheet No. 137

Second Revised Sheet No. 137A

Second Revised Sheet No. 230A

Second Revised Sheet No. 230C

Fifth Revised Sheet No. 247

WGI states that the purpose of the filing is to comply with Order No. 587-R and the applicable Version 1.6 standards adopted by the North American Energy Standards Board and recommendations of the Wholesale Gas Quadrant approved by the Commission.

WGI states that copies of this filing were served on its customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 24, 2003.

Magalie R. Salas,
Secretary.

[FR Doc. 03-15918 Filed 6-23-03; 8:45 am]

BILLING CODE 6717-01-P